DEPARTMENT OF DEFENSE

Office of the Secretary

Defense Task Force on Sexual Assault in the Military Service

AGENCY: Office of the Under Secretary of Defense (Personnel and Readiness), DoD.

ACTION: Notice of meeting; correction.

SUMMARY: The Department of Defense published a notice May 29, 2009 (74 FR 25719) announcing a meeting of the Defense Task Force on Sexual Assault in the Military Services. This notice is being published to provide an updated agenda for the meeting.

FOR FURTHER INFORMATION CONTACT: Michael Molnar, Deputy to the Executive Director; 2850 Eisenhower Avenue, Suite 100, Alexandria, Virginia 22314; phone (888) 325-6640; fax (703) 325-6710; michael.molnar@wso.whs.mil.

SUPPLEMENTARY INFORMATION:

Agenda

Thursday, June 25, 2009

8 a.m.-8:05 a.m.—Welcome and Administrative Remarks.

8:05 a.m.-8:10 a.m.—Opening Remarks.

8:10 a.m.-8:45 a.m.—Plan of the Day.

8:45 a.m.-9 a.m.—Break.

9 a.m.-10 a.m.—Quick Compass Briefing.

10 a.m.-12 p.m.—Subcommittee Work.

12 p.m.-1 p.m.—Noon Meal.

1 p.m.-2 p.m.—Cross-Subcommittee Briefs.

2 p.m.-2:15 p.m.—Break.

2:15 p.m.-4:15 p.m.—Ad Hoc Subcommittee work.

4:15 p.m.-4:30 p.m.—Wrap-Up.

Friday, June 26, 2009

8 a.m.-8:05 a.m.—Welcome and Administrative Remarks.

8:05 a.m.-8:10 a.m.—Opening Remarks.

8:10 a.m.-9:10 a.m.—Drill Sergeant and Instructor Briefing.

9:10 a.m.-9:20 a.m.—Break.

9:20 a.m.-10:20 a.m.—Public Comment Period.

10:20 a.m.-10:30 a.m.—Break.

10:30 a.m.-11:30 a.m.—Subcommittee work.

11:30 a.m.-12:30 p.m.—Noon Meal.

12:30 p.m.-2 p.m.—Project Planning and Tentative Report Writing Process Decisions.

2 p.m.-2:15 p.m.—Break.

2:15 p.m.-4:15 p.m.—Continuation of Project Planning and Tentative Report Writing Process Decisions.

4:15 p.m.-4:30 p.m.—Wrap-up.

Due to scheduling changes the Defense Task Force on Sexual Assault in the Military Services was unable to announce the agenda changes in the Federal Register for the 15-calendar days required by 41 CFR 102-3.150(a). Accordingly, the Committee Management Officer for the Department of Defense, pursuant to 41 CFR 102-3.150(b), waives the 15-calendar day notification requirement.

Dated: June 17, 2009.
Morgan E. Frazier,
Alternate OSD Federal Register Liaison Officer, Department of Defense.

[FR Doc. E9-14671 Filed 6-22-09; 8:45 am]

BILLING CODE 5001-06-P